DEPARTMENT OF ENERGY

Federal Energy Regulatory Commission

[Docket Nos. ER01-1353-000, ER01-1354-000 and ER01-1355-000 (Not consolidated)]

PacifiCorp; Notice of Convening Session

May 1, 2001.

In PacifiCorp, 95 FERC ¶ 61,122 (2001), the Commission addressed various proposed unexecuted service agreements filed by PacifiCorp for service to Utah Associated Municipal Power Systems, Utah Municipal Power Agency and Deseret Generation and Transmission Cooperative (collectively, “Customers”). Pursuant to the order, the Commission stated that the dispute regarding whether PacifCorp properly filed proposed agreements with these Customers as well as appropriate terms of such service may best be resolved through good faith negotiations between the parties. Accordingly, the Commission directed the Commission's Dispute Resolution Service (DRS) to convene a meeting of the parties within 7 days to explore the use of an ADR process to foster negotiation and agreement.

The convening session in this matter will be held via conference call with the parties to the three dockets listed above. The conference will be held on May 3, 2001 at 2 p.m. EST. Participating parties should contact Amy Blauman for the necessary call-in information. Her telephone number is (202) 208-2143 and her e-mail address is Amy.Blauman@ferc.fed.us.

The purpose of the convening session will be to assist the parties developing an ADR process to achieve a resolution of the issues.

David P. Boergers,
Secretary.

[FR Doc. 01-11341 Filed 5-4-01; 8:45 am]

BILLING CODE 6717-01-M